DEPARTMENT OF JUSTICE

Antitrust Division

Notice Pursuant to the National Cooperative Research and Production Act of 1993—Cyber Security Industry Alliance, Inc.

Notice is hereby given that, on April 28, 2004, pursuant to section 6(a) of the National Cooperative Research and Production Act of 1993, 15 U.S.C. 4301 et seq. (“the Act”), Cyber Security Industry Alliance, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are: Check Point Software Technologies, Inc., Redwood City, CA; Entrust Inc., Addison, TX; Internet Security Systems, Inc., Atlanta, GA; NetScreen, Sunnyvale, CA; Network Associates, Inc., Santa Clara, CA; RSA Security, Inc., Bedford, MA; Secure Computing Corporation, San Jose, CA; Symantec Corporation, Cupertino, CA; PGP Corporation, Palo Alto, CA; Computer Associates International, Inc., Islandia, NY; BindView Development Corporation, Houston, TX; Citadel Security Software, Inc., Dallas, TX; and Qualys, Inc., Redwood Shores, CA. The nature and objectives of the venture are to promote the continuous enhancement of cyber security through public policy, education and technology-focused initiatives; to promote such initiatives across the cyber security industry and on a global basis; to promote and encourage the adoption of strong, effective technology standards relating to the cyber security industry through the foregoing initiatives and public education and to undertake such other activities as may from time to time be appropriate to further the purposes and achieve the goals set forth above.

Dorothy B. Fountain,
Deputy Director of Operations, Antitrust Division.

[FR Doc. 04-12061 Filed 5-27-04; 8:45 am]

BILLING CODE 4410-11-M